DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than August 1, 2005.

Interested persons are invited to submit written comments regarding the subject matter of the investigations to the Director, Division of Trade Adjustment Assistance, at the address shown below, not later than August 1, 2005.

The petitions filed in this case are available for inspection at the Office of the Director, Division of Trade Adjustment Assistance, Employment and Training Administration, U.S. Department of Labor, Room C-5311, 200 Constitution Avenue, NW., Washington, DC 20210.

Signed at Washington, DC, this 13th day of July, 2005.
Linda G. Poole,
Acting Director, Division of Trade Adjustment Assistance.

Appendix
[Petitions instituted between 06/13/2005 and 06/24/2005]
TA-W | Subject firm (petitioners) | Location | Date of institution | Date of petition
57,367 | Tellabs (Wkrs) | Petuluma, CA | 06/13/2005 | 06/13/2005
57,368 | Holyoke Card Co., Inc. (Comp) | Springfield, MA | 06/13/2005 | 06/06/2005
57,369 | U.S. Aluminum Products, Inc. (State) | Haskell, NJ | 06/13/2005 | 06/10/2005
57,370 | SportRack Automotive (Comp) | Port Huron, MI | 06/13/2005 | 06/10/2005
57,371 | Hampton Paper and Transfer Printing, Inc. (Comp) | Johnson City, TN | 06/13/2005 | 06/09/2005
57,372 | HO Sports Company, Inc. (Comp) | Rodmond, WA | 06/13/2005 | 06/08/2005
57,373 | Teradyne, Inc. (State) | Central Boston, MA | 06/13/2005 | 06/06/2005
57,374 | United Plastic Group, Inc. (Wkrs) | El Paso, TX | 06/14/2005 | 06/14/2005
57,375 | Midwest Manufacturing (Comp) | Kellogg, IA | 06/14/2005 | 06/08/2005
57,376 | Arnold Magnetics (Wkrs) | Norfolk, NE | 06/14/2005 | 06/08/2005
57,377 | TMobile (State) | LaGrange, GA | 06/14/2005 | 06/10/2005
57,378 | Emerson Network Power (NPC) | Toccoa, GA | 06/15/2005 | 06/13/2005
57,379 | Cerro Metal Products Co. (Wkrs) | Bellefonte, PA | 06/15/2005 | 06/13/2005
57,380 | Patterson Wood Products (State) | Nacogdoches, TX | 06/15/2005 | 06/13/2005
57,381 | Brooskis Uniform and Equipment (Wkrs) | Tacoma, WA | 06/15/2005 | 06/13/2005
57,382 | Gas Transmission Service Co. (NPW) | Spokane, WA | 06/15/2005 | 06/13/2005
57,383 | Lexalite International Corp. (Wkrs) | Charlevoix, MI | 06/15/2005 | 06/15/2005
57,384 | Laidlaw (State) | Kingman, AZ | 06/15/2005 | 06/07/2005
57,385 | Acoustic Authority (State) | Valencia, CA | 06/15/2005 | 06/02/2005
57,386 | First Inertia Switch (Comp) | Grand Blanc, MI | 06/16/2005 | 06/15/2005
57,387 | Gilbert Martin Woodworking Co., Inc (Wkrs) | San Diego, CA | 06/16/2005 | 06/09/2005
57,388 | Nokia (State) | Fort Worth, TX | 06/16/2005 | 06/14/2005
57,389 | Payton Technology Company (State) | Fountain Valley, CA | 06/16/2005 | 06/15/2005
57,390 | Commemorative Brands, Inc. (Comp) | El Paso, TX | 06/16/2005 | 06/13/2005
57,391 | Nortel (Wkrs) | RTP, NC | 06/16/2005 | 06/10/2005
57,392 | Apex Texicon, Inc. (Comp) | Bangor, PA | 06/16/2005 | 06/15/2005
57,393 | Panther Machine, Inc. (Comp) | Wixom, MI | 06/16/2005 | 06/13/2005
57,394 | EDSCHA Roof Systems, LLC (Wkrs) | Greer, SC | 06/16/2005 | 06/09/2005
57,395 | Nellson Nutraceutical (Wkrs) | Cato, NY | 06/16/2005 | 05/26/2005
57,396 | Levy Group (The) (UNITE) | New York, NY | 06/16/2005 | 06/10/2005
57,397 | Wyeth Pharmaceuticals, Inc. (Wkrs) | Rouses Point, NY | 06/16/2005 | 06/03/2005
57,398 | Target Stamped Products Corporation (Comp) | Kinsman, OH | 06/16/2005 | 06/06/2005
57,399 | Electrolux Home Products (Comp) | Greenville, MI | 06/17/2005 | 06/17/2005
57,400 | Cooper Wiring Devices (UAW) | Long Island City, NY | 06/17/2005 | 06/16/2005
57,401 | CDS Ensembles (Wkrs) | Greer, SC | 06/17/2005 | 06/13/2005
57,402 | St. John, Inc. (State) | Irvine, CA | 06/17/2005 | 06/16/2005
57,403 | Alfa Laval, Inc. (Wkrs) | Pleasant Prairie, WI | 06/17/2005 | 06/16/2005
57,404 | Velcro USA, Inc. (Comp) | Lancaster, SC | 06/17/2005 | 06/16/2005
57,405 | Foamex (Wkrs) | Newton, NC | 06/17/2005 | 06/16/2005
57,406 | Dana-Torque Traction Mfg., Inc. (Comp) | Cape Girardeau, MO | 06/17/2005 | 06/13/2005
57,407 | Cattiva, Inc. (UNITE) | New York, NY | 06/17/2005 | 05/27/2005
57,408 | Advanced Electronics, Inc. (Wkrs) | Boston, MA | 06/17/2005 | 06/03/2005
57,409 | Elbeco, Inc. (UNITE) | Meyersdale, PA | 06/20/2005 | 06/07/2005
57,410 | Ametek USG Division (Comp) | Bartow, FL | 06/20/2005 | 06/17/2005
57,411 | Lexington Home Brands (Wkrs) | Hildebran, NC | 06/20/2005 | 06/13/2005
57,412 | Reptron (State) | Hibbing, MN | 06/20/2005 | 06/20/2005
57,413 | Mount Vernon Mills, Inc. (Comp) | Tallassee, AL | 06/20/2005 | 06/20/2005
57,414 | Thermtrol Corporation (Wkrs) | North Canton, OH | 06/20/2005 | 06/10/2005
57,415 | Quantum/Certance (State) | Costa Mesa, CA | 06/20/2005 | 06/03/2005
57,416 | IR Security and Safety (Comp) | Colorado Springs, CO | 06/21/2005 | 06/17/2005
57,417 | Unaxis (State) | Golden, CO | 06/21/2005 | 06/20/2005
57,418 | Scotts Company (The) (Wkrs) | Marysville, OH | 06/21/2005 | 04/26/2005
57,419 | Sabre Holdings, Inc. (Wkrs) | Tulsa, OK | 06/21/2005 | 06/17/2005
57,420 | Honeywell Int'l, Inc. (State) | Glendale, AZ | 06/21/2005 | 06/14/2005
57,421 | Blair Corporation (NPW) | Erie, PA | 06/21/2005 | 06/20/2005
57,422 | Benedict Manufacturing Co. (Comp) | Big Rapids, MI | 06/21/2005 | 06/17/2005
57,423 | Bruckner Supply Company (NPC) | Grand Junction, CO | 06/21/2005 | 06/13/2005
57,424 | Toter, Inc. (Comp) | Statesville, NC | 06/21/2005 | 06/14/2005
57,425 | Visionaire Lighting (State) | Gardena, CA | 06/21/2005 | 06/20/2005
57,426 | Mercury Marine (Comp) | St. Cloud, FL | 06/21/2005 | 06/20/2005
57,427 | Pomeroy Computer Resources (Wkrs) | Macon, GA | 06/21/2005 | 06/20/2005
57,428 | Americal Corporation (Comp) | Henderson, NC | 06/22/2005 | 06/17/2005
57,429 | Tyco Electronics (Comp) | Menlo Park, CA | 06/22/2005 | 06/21/2005
57,430 | Springs Industries, Inc. (Comp) | Rock Hill, SC | 06/22/2005 | 06/21/0005
57,431 | Fechheimer (UNITE) | Jefferson, PA | 06/22/2005 | 06/20/2005
57,432 | Alcoa Automotive Castings (USW) | Hawesville, KY | 06/22/2005 | 06/21/2005
57,433 | DSM Pharmaceuticals, Inc. (Wkrs) | Greenville, NC | 06/22/2005 | 06/17/2005
57,434 | Pfaltzgraff Company (The) (NPC) | York, PA | 06/22/2005 | 06/16/2005
57,435 | Burns Wood Products, Inc. (Comp) | Granite Falls, NC | 06/22/2005 | 06/21/2005
57,436 | Leviton Mfg. Co., Inc. (Comp) | Warwick, RI | 06/22/2005 | 06/20/2005
57,437 | Eaton—Hydraulics (Comp) | Vinita, OK | 06/23/2005 | 06/22/2005
57,438 | Hudson RCI (Comp) | Temecula, CA | 06/23/2005 | 06/20/2005
57,439A | Unit Parts Company (Comp) | Edmond, OK | 06/23/2005 | 06/22/2005
57,439 | Unit Parts Company (Comp) | Oklahoma, OK | 06/23/2005 | 06/22/2005
57,440 | Trends Corporation (State) | Miami, FL | 06/23/2005 | 06/02/2005
57,441 | Wescast (Wkrs) | Cordele, GA | 06/23/2005 | 06/22/2005
57,442 | Menlo Worldwide (NPC) | Salem, NH | 06/23/2005 | 06/20/2005
57,443 | Multitone Engraving Co., Inc. (State) | Rochelle Park, NJ | 06/23/2005 | 06/23/2005
57,444 | Whaling Mfg. Co., Inc. (Comp) | New York, NY | 06/24/2005 | 06/21/2005
57,445 | Liz Claiborne/Ellen Tracy (UNITE) | North Bergen, NJ | 06/24/2005 | 06/21/2005
57,446 | Hercules (State) | Parlin, NJ | 06/24/2005 | 06/24/2005
57,447 | LC Special Markets Co., Inc. (State) | North Bergen, NJ | 06/24/2005 | 06/24/2005
57,448 | Mammoth, Inc. (State) | Chaska, MN | 06/24/2005 | 06/24/2005
57,449 | UNICIRCUIT (State) | Roseville, MN | 06/24/2005 | 06/24/2005
57,450 | Zebra Pen Corp. (State) | Edison, NJ | 06/24/2005 | 06/09/2005

[FR Doc. E5-3843 Filed 7-19-05; 8:45 am]

BILLING CODE 4510-30-P